DEPARTMENT OF AGRICULTURE

Food Safety and Inspection Service

9 CFR Parts 530, 531, 532, 533, 534, 537, 539, 540, 541, 544, 548, 550, 552, 555, 557, 559, 560, and 561

[Docket No. FSIS-2017-0023]

Educational Meetings on the Mandatory Inspection of Fish of the Order Siluriformes and Products Derived From Such Fish Final Rule Implementation

AGENCY: Food Safety and Inspection Service, USDA.

ACTION: Notification of educational meetings.

SUMMARY: The Food Safety and Inspection Service (FSIS) is announcing two educational meetings to discuss the enforcement and implementation of the Final Rule, “Mandatory Inspection of Fish of the Order Siluriformes and Products Derived from Such Fish.” Fish of the order Siluriformes include fish of several families, including catfish (fish of the family Ictaluridae), basa, tra, and swai (fish of the family Pangasiidae), and clarias (fish of the Clariidae family). FSIS will present information on the upcoming full implementation of the regulatory requirements at official domestic establishments that process Siluriformes fish and fish products, as well as information on entry procedures and reinspection at official import inspection establishments. FSIS is particularly interested in soliciting participation from representatives from domestic wild-caught operations that process Siluriformes fish and fish products.

The primary objectives of the meetings are to provide updated information to stakeholders and to encourage dialogue between FSIS and the Siluriformes fish industry. Affected industry and interested individuals, organizations, and other stakeholders are invited to participate in the meetings.

DATES: The meetings are scheduled as follows:

• The first meeting will be held in Richmond, VA, on Tuesday, June 27, 2017; 9 a.m.-3 p.m. ET, at the Hilton Richmond Downtown, 501 East Broad Street, Richmond, VA 23129. For directions and parking instructions, please visit: www.richmonddowntown.hilton.com.

• The second meeting will be held in Baltimore, MD, on Thursday, July 20, 2017; 9 a.m.-3 p.m. ET, at the Sheraton Baltimore Washington International Hotel, 1100 Old Elkridge Landing Road, Linthicum Heights, MD 21090. For directions and parking instructions, please visit: www.sheratonbwiairport.com.

FOR FURTHER INFORMATION CONTACT: Evelyn Arce, Outreach and Partnership Division, Office of Outreach, Employee Education and Training, FSIS, 1400 Independence Ave. SW., Mail Stop 3778, Washington, DC 20250; Telephone: (202) 418-8903; Fax: (202) 690-6519; Email: Evelyn.Arce@fsis.usda.gov, regarding additional information about this meeting or to arrange for special accommodations.

Questions regarding the mandatory inspection of fish of the order Siluriformes and products derived from such fish may be directed to AskFish@fsis.usda.gov.

SUPPLEMENTARY INFORMATION: Further information on these meetings will be posted on FSIS Web site at: https://www.fsis.usda.gov/wps/portal/fsis/newsroom/meetings and through the FSIS Constituent Update.

The final rule may be accessed from the FSIS Web site at: http://www.fsis.usda.gov/wps/portal/fsis/topics/regulations/federal-register/interim-and-final-rules.

Registration: To pre-register for the either of meetings, please go to http://www.fsis.usda.gov/wps/portal/fsis/newsroom/meetings.

The cutoff dates for pre-registration are as follows:

Richmond, VA: Friday, June 23, 2017

Baltimore, MD: Tuesday, July 18, 2017

Background

On December 2, 2015, FSIS published the final rule to establish a mandatory inspection program for fish of the order Siluriformes and products derived from these fish (80 FR 75590). The final rule and other resources and information on Siluriformes fish can be found on the FSIS “Inspection Program For Siluriformes Fish, Including Catfish” Web page: https://www.fsis.usda.gov/wps/portal/fsis/topics/inspection/siluriformes.

The final rule was effective March 1, 2016; however, the Agency provided an 18-month transitional period until September 1, 2017, to give domestic establishments time to prepare and comply with the final regulations. The transitional period also provided foreign countries with time to submit the documentation necessary to continue exporting Siluriformes fish and fish products to the United States and to show that they have equivalent inspection systems.

FSIS began inspecting domestic establishments on March 1, 2016, and began selecting imported Siluriformes fish shipments for reinspection on April 15, 2016. During the transitional period, FSIS inspection personnel have exercised broad discretion in enforcing the regulatory requirements, focusing primarily on preventing adulterated or misbranded Siluriformes fish and fish products from entering commerce.

FSIS held a series of domestic and import educational meetings when the final rule initially published in December 2015. FSIS has gained significant insight into the domestic and importing Siluriformes fish industries during the transitional period, and is announcing these educational meetings to provide updates regarding full implementation of the regulatory requirements.

In addition, the Agency is interested in exchanging information with operations that process wild-caught Siluriformes fish and fish products, and encourages representatives and parties involved in this industry to attend the educational meetings. The Agency is particularly interested in gaining insight into how the wild-caught Siluriformes fish arrive at processing facilities, from where the wild-caught Siluriformes fish are sourced, daily production volume information for these facilities, and where the final Siluriformes fish and fish products are being sold or distributed after processing. FSIS will post a list of questions that FSIS intends to use to gather information concerning these issues at https://www.fsis.usda.gov/meetings.

Additional Public Notification

Public awareness of all segments of rulemaking and policy development is important. Consequently, FSIS will announce this Federal Register publication on-line through the FSIS Web page located at: http://www.fsis.usda.gov/federal-register.

FSIS also will make copies of this publication available through the FSIS Constituent Update, which is used to provide information regarding FSIS policies, procedures, regulations, Federal Register notices, FSIS public meetings, and other types of information that could affect or would be of interest to our constituents and stakeholders. The Update is available on the FSIS Web page. Through the Web page, FSIS is able to provide information to a much broader, more diverse audience. In addition, FSIS offers an email subscription service which provides automatic and customized access to selected food safety news and information. This service is available at: http://www.fsis.usda.gov/subscribe. Options range from recalls to export information, regulations, directives, and notices. Customers can add or delete subscriptions themselves, and have the option to password protect their accounts.

USDA Non-Discrimination Statement

No agency, officer, or employee of the USDA shall, on the grounds of race, color, national origin, religion, sex, gender identity, sexual orientation, disability, age, marital status, family/parental status, income derived from a public assistance program, or political beliefs, exclude from participation in, deny the benefits of, or subject to discrimination any person in the United States under any program or activity conducted by the USDA.

How To File a Complaint of Discrimination

To file a complaint of discrimination, complete the USDA Program Discrimination Complaint Form, which may be accessed online at http://www.ocio.usda.gov/sites/default/files/docs/2012/Complain_combined_6_8_12.pdf, or write a letter signed by you or your authorized representative.

Send your completed complaint form or letter to USDA by mail, fax, or email:

Mail: U.S. Department of Agriculture, Director, Office of Adjudication, 1400 Independence Avenue SW., Washington, DC 20250-9410.

Fax: (202) 690-7442.

Email: program.intake@usda.gov.

Persons with disabilities who require alternative means for communication (Braille, large print, audiotape, etc.), should contact USDA's TARGET Center at (202) 720-2600 (voice and TDD).

Done at Washington, DC, on: June 12, 2017.
Alfred V. Almanza,
Administrator.

[FR Doc. 2017-12441 Filed 6-14-17; 8:45 am]

BILLING CODE 3410-DM-P